ARCHITECTURAL AND TRANSPORTATION BARRIERS COMPLIANCE BOARD

36 CFR Part 1192

[Docket No. ATBCB-2013-0001]

RIN 3014-AA40

Rail Vehicles Access Advisory Committee

AGENCY: Architectural and Transportation Barriers Compliance Board.

ACTION: Notice of establishment; appointment of members.

SUMMARY: We, the Architectural and Transportation Barriers Compliance Board (Access Board), have decided to establish an advisory committee to advise us on revising and updating our accessibility guidelines for transportation vehicles that operate on fixed guideway systems (e.g., rapid rail, light rail, commuter rail, intercity rail, and high speed rail).

DATES: A notice of the first meeting will be published in the Federal Register after consulting with the committee members.

ADDRESSES: Committee meetings will be held at the Access Board's conference room, 1331 F Street NW., Suite 800, Washington, DC 20004.

FOR FURTHER INFORMATION CONTACT: Paul Beatty, Office of Technical and Information Services, Architectural and Transportation Barriers Compliance Board, 1331 F Street NW., Suite 1000, Washington, DC 20004-1111. Telephone: (202) 272-0012 (Voice) or (202) 272-0072 (TTY). Email address: rvaac@access-board.gov.

SUPPLEMENTARY INFORMATION: In this notice, “we,” “us” and “our” refer to the Architectural and Transportation Barriers Compliance Board (Access Board).

In February 2013, we published a notice of intent to establish an advisory committee to make recommendations to the Board on matters associated with revising and updating our accessibility guidelines issued pursuant to the Americans with Disabilities Act for transportation vehicles that operate on fixed guideway systems (e.g., rapid rail, light rail, commuter rail, intercity rail, and high speed rail). See 78 FR 10581 (February 14, 2013).

For the reasons stated in the notice of intent, we have determined that establishing the Rail Vehicles Access Advisory Committee (committee) is necessary and in the public interest. We have appointed the following 23 organizations as members to the Committee:

• Alstom Transportation

• American Council of the Blind

• Association of Programs for Rural Independent Living

• Bombardier Transportation

• California Department of Transportation, Division of Rail

• Center for Inclusive Design and Environmental Access

• Community Transportation Association of America

• Disability Rights Education & Defense Fund

• Hearing Access Program

• International Centre for Accessible Transportation

• Maryland Transit Administration

• Metra & Northeast Illinois Regional Commuter Railroad Corporation

• National Association of the Deaf

• National Association of Railroad Passengers

• National Council on Independent Living

• National Disability Rights Network

• National Railroad Passenger Corporation (Amtrak)

• Parsons Brinckerhoff

• RailPlan International

• Ricon Corporation

• South West Transit Association

• Talgo, Inc.

• United Spinal Association

The Federal Railroad Administration will serve as an ex officio member.

We regret being unable to accommodate all requests for membership on the committee. It was necessary to limit membership to maintain balance among members representing different interests such as transportation vehicle manufacturers, transportation providers which operate fixed guideway systems, disability organizations, and other stakeholder organizations affected by the guidelines. The committee membership identified above provides representation for the interests affected by the issues to be discussed.

Additional committee members may be added to achieve balance of points of view among committee membership. Additional committee members may only be added during the first meeting of the committee. A three-quarters vote of the committee and concurrence by the Chairperson of the Access Board is required.

A notice of the first meeting dates will be published in the Federal Register after consulting with the committee members. Decisions with respect to future meetings will be made at the first meeting and from time to time thereafter. Meetings will be held at the Access Board's offices, 1331 F Street NW., Suite 800, Washington, DC 20004.

Committee meetings will be open to the public and interested persons can attend the meetings and communicate their views. Members of the public will have opportunities to address the committee on issues of interest to them during public comment periods scheduled on each day of the meeting. Members of groups or individuals who are not members of the committee may also have the opportunity to participate in subcommittees of the committee if subcommittees are formed.

The meetings will be accessible to persons with disabilities. An assistive listening system, Communication Access Realtime Translation (CART), and sign language interpreters will be provided. Persons attending the meetings are requested to refrain from using perfume, cologne, and other fragrances for the comfort of other participants (see www.access-board.gov/about/policies/fragrance.htm for more information).

Karen L. Braitmayer,
Chair.

[FR Doc. 2013-12310 Filed 5-22-13; 8:45 am]

BILLING CODE 8150-01-P